Executive Order 14097 of April 27, 2023

Authority To Order the Ready Reserve of the Armed Forces to Active Duty To Address International Drug Trafficking

By the authority vested in me as President by the Constitution and the laws of the United States of America, including the National Emergencies Act (50 U.S.C. 1601 et seq.), and in furtherance of Executive Order 14059 of December 15, 2021 (Imposing Sanctions on Foreign Persons Involved in the Global Illicit Drug Trade), which declared a national emergency to address the unusual and extraordinary threat to the national security, foreign policy, and economy of the United States posed by international drug trafficking, it is hereby ordered as follows:

Section 1. Emergency Authority. To provide additional authority to the Secretary of Defense and the Secretary of Homeland Security to respond to the national emergency declared in Executive Order 14059, the authority under section 12302 of title 10, United States Code, is invoked and made available, according to its terms, to the Secretary of Defense and the Secretary of Homeland Security. The Secretaries of the Army, Navy, and Air Force, at the direction of the Secretary of Defense, and the Secretary of Homeland Security with respect to the Coast Guard when it is not operating as a service in the Navy, are authorized to order to active duty such units and individual members of the Ready Reserve under the jurisdiction of the Secretary concerned as the Secretary concerned considers necessary, consistent with the terms of section 12302 of title 10, United States Code.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 27, 2023.

[FR Doc. 2023-09318

Filed 4-28-23; 8:45 am]

Billing code 3395-F3-P